DEPARTMENT OF ENERGY

National Nuclear Security Administration

Proposed Subsequent Arrangement

AGENCY: National Nuclear Security Administration, Department of Energy.

ACTION: Proposed subsequent arrangement.

SUMMARY: This document is being issued under the authority of the Atomic Energy Act of 1954, as amended. The Department is providing notice of a proposed subsequent arrangement under the Agreement for Cooperation between the American Institute in Taiwan and the Taipei Economic and Cultural Representative Office in the United States Concerning Peaceful Uses of Nuclear Energy.

DATES: This subsequent arrangement will take effect no sooner than August 11, 2022.

FOR FURTHER INFORMATION CONTACT: Ms. Andrea Ferkile, Office of Nonproliferation and Arms Control, National Nuclear Security Administration, Department of Energy. Telephone: 202-586-8868 or email: andrea.ferkile@nnsa.doe.gov.

SUPPLEMENTARY INFORMATION: This proposed subsequent arrangement concerns the retransfer of 31,800.11 kilograms depleted uranium hexafluoride and 3,000,272.54 grams low enriched uranium hexafluoride containing 97,514.76 grams U-235, both U.S.-obligated, from the Institute of Nuclear Energy Research in Taoyuan City, Taiwan, to Urenco UK in Capenhurst, Chester, United Kingdom, for stabilization and storage. Upon transfer to the United Kingdom, the material will become subject to the Agreement between the Government of the United States of America and the Government of the United Kingdom of Great Britain and Northern Ireland for Cooperation in Peaceful Uses of Nuclear Energy.

Pursuant to the authority in section 131 a. of the Atomic Energy Act of 1954, as delegated, I have determined that this proposed subsequent arrangement concerning the retransfer of U.S.-obligated nuclear material will not be inimical to the common defense and security of the United States of America.

Signing Authority

This document of the Department of Energy was signed on July 21, 2022, by Corey Hinderstein, Deputy Administrator for Defense Nuclear Nonproliferation, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 22, 2022.
Treena V. Garrett,
Federal Register Liaison Officer, U.S. Department of Energy.

[FR Doc. 2022-16080 Filed 7-26-22; 8:45 am]

BILLING CODE 6450-01-P